DEPARTMENT OF EDUCATION

[CFDA Nos. 84.031A, 84.031N, 84.031W]

Office of Postsecondary Education; Strengthening Institutions, and Alaska Native and Native Hawaiian-Serving Institutions Programs; Notice Inviting Applications for New Awards for Fiscal Year (FY) 2002

Purpose of Programs: The Strengthening Institutions, and Alaska Native and Native Hawaiian-Serving Institutions Programs are authorized under Title III, Part A of the Higher Education Act of 1965, as amended (HEA). These programs will be referred to collectively in this notice as the “Title III, Part A Programs.” The FY 2002 competition for new planning, development, and construction grants under another Title III, Part A Program, the American Indian Tribally Controlled Colleges and Universities Program, will be announced in a separate Federal Register notice. Each Title III, Part A Program provides grants to eligible institutions of higher education to enable them to improve their academic quality, institutional management, and fiscal stability, and increase their self-sufficiency. The grants thereby support the elements of the National Education Goals that are relevant to these institutions' unique missions.

Eligible Applicants: To qualify as an eligible institution under either of the programs included in this notice, an accredited or preaccredited institution must, among other requirements, have a high enrollment of needy students, and its Educational and General (E&G) expenditures per full-time equivalent (FTE) undergraduate student must be low in comparison with the average E&G expenditures per FTE undergraduate student of institutions that offer similar instruction. The complete eligibility requirements are found in 34 CFR 607.2-607.5. The regulations may also be accessed by visiting the following Department of Education Web site http://www.gov.ed.gov/legislation/FedRegister.

Note 1: A grantee under the Developing Hispanic-Serving Institutions (HSI) Program, authorized under Title V of the HEA, may not receive a grant under any Title III, Part A Program. Further, an HSI Program grantee may not give up that grant in order to receive a grant under any Title III, Part A Program. Therefore, a current HSI Program grantee may not apply for a grant under any Title III, Part A Program in FY 2002.

Note 2: An institution that does not fall within the limitation described in NOTE 1 may apply for a FY 2002 grant under all Title III, Part A Programs for which it is eligible, as well as under the HSI Program. An applicant may receive only one grant.

Applications Available: February 6, 2002.

Deadline for Transmittal of Applications: March 22, 2002.

Deadline for Intergovernmental Review: May 21, 2002.

Estimated Available Funds: Congress has appropriated $73.625 million for the Strengthening Institutions Program, and $6.5 million for the Alaska Native and Native Hawaiian-Serving Institutions Program for FY 2002.

Estimated Range of Awards: $330,000—$365,000 per year for 5-year development grants under the Strengthening Institutions Program; and $30,000—$35,000 for 1-year planning grants under the Title III, Part A Programs.

Estimated Average Size of Awards: $350,000 per year for 5-year development grants under the Strengthening Institutions Program; and $32,500 for 1-year planning grants under the Title III, Part A Programs.

Estimated Number of Awards: 14 planning grants under the Title III, Part A programs; 16 development grants under the Strengthening Institutions Program; and two development grants under the Alaska Native and Native Hawaiian-Serving Institutions Program.

Project Period: 60 months for development grants and 12 months for planning grants.

Note: The Department is not bound by any estimates in this notice. Applicants should periodically check the Title III, Part A Web site for further information on these programs. The address is http://www.ed.gov/offices/OPE/HEP/idues/title3a.html.

Page Limit: We have established mandatory page limits for the individual development grant, the cooperative arrangement development grant, and the planning grant applications. You must limit the narrative application to the equivalent of no more than 100 pages for the individual development grant, 140 pages for the cooperative arrangement development grant and 30 pages for the planning grant, using the following standards:

• A “page” is 8.5” x 11”, on one side only, with 1” margins top, bottom, right and left.

• Double space (no more than three lines per vertical inch) all text in the application narrative, including titles and headings. However, you may single space footnotes, quotations, references, captions, charts, forms, tables, figures and graphs.

• Use a font that is either 12-point or larger or no smaller than 10 pitch (characters per inch).

The page limit does not apply to the application cover sheet (ED 424) or the assurances and certifications. However, the page limitation applies to all other parts of the application.

We will reject your application if—

• You apply these standards and exceed the page limit; or

• You apply other standards and exceed the equivalent of the page limit.

Special Funding Considerations: In tie-breaking situations described in 34 CFR 607.23 of the governing regulations, we award one additional point to an applicant institution that has an endowment fund for which the 1998-1999 market value per full-time equivalent (FTE) student was less than the comparable average per FTE student at similar type institutions. We also award one additional point to an applicant institution that had 1998-1999 expenditures for library materials per FTE student that were less than the comparable average per FTE student at similar type institutions.

For the purpose of these funding considerations, an applicant must demonstrate that the market value of its endowment fund per FTE student, and library expenditures per FTE student, were less than the national averages for the year 1998-1999.

If a tie remains, after applying the additional point or points, we will determine the ranking of applicants based on the lowest combined library expenditures per FTE student and endowment values per FTE student.

Applicable Regulations: (a) The Education Department General Administrative Regulations (EDGAR) in 34 CFR parts 74, 75, 77, 79, 82, 85, 86, 97, 98, and 99; and, (b) The regulations for this program in 34 CFR part 607.

Applicability of Executive Order 13202: Applicants that apply for construction funds under these programs must comply with the Executive order 13202 signed by President Bush on February 17, 2001 and amended on April 26, 2001. This Executive order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive order does not prohibit contractors or subcontractors from voluntarily entering into these agreements.

Projects funded under this program that include construction activity will be provided a copy of this Executive order and will be asked to certify that they will adhere to it.

Application Procedures

Note: Some of the procedures in these instructions for transmitting applications differ from those in the EDGAR (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In Fiscal Year 2002, the U.S. Department of Education is continuing to expand its pilot project of electronic submission of applications to include additional formula grant programs and additional discretionary grant competitions. The Title III, Part A Programs (CFDA Nos. 84.031A, 84.031N, and 84.031W) are included in the pilot project. If you are an applicant under the Title III, Part A Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is strictly voluntary.

• You will not receive any additional point value or penalty because you submit a grant application in electronic or paper format.

• You can submit all grant documents electronically including the Application for Federal Assistance (ED 424), Budget Information—Non-Construction Programs (ED 524), and all necessary assurances and certifications.

• Within three working days of submitting your electronic application fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Title III, Part A programs at http://e-grants.ed.gov.

We have included additional information about the e-APPLICATION pilot project (see Parity Guidelines between Paper and Electronic Applications) in the application package.

For Applications or Further Information Contact: Darlene B. Collins, U.S. Department of Education, 1990 K Street, NW, 6th Floor, Washington, DC 20202-8513. Telephone: (202) 502-7777 or via Internet darlene.collins@ed.gov.

If you use a telecommunications device for the deaf (TDD), you may call the Federal Information Relay Service (FIRS) at 1-800-877-8339.

Individuals with disabilities may obtain this document in an alternative format (e.g., Braille, large print, audiotape, or computer diskette) on request to the program contact person listed under For Applications or Further Information Contact.

Individuals with disabilities may obtain a copy of the application package in an alternative format by contacting that person. However, the Department is not able to reproduce in an alternative format the standard forms included in the application package.

Electronic Access To This Document

You may view this document, as well as all other Department of Education documents published in the Federal Register, in text or Adobe Portable Document Format (PDF) on the Internet at the following Web site www.ed.gov/legislation/FedRegister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at http://www.access.gpo.gov/nara/index.html.

Program Authority: 20 U.S.C. 1057-1059d.

Dated: January 30, 2002.
Kenneth W. Tolo,
Acting Deputy Assistant Secretary for Policy, Planning and Innovation, Office of Postsecondary Education.

[FR Doc. 02-2703 Filed 2-4-02; 8:45 am]

BILLING CODE 4000-01-P